ARCTIC RESEARCH COMMISSION

Notice of Vacancy

ACTION: Notice of vacancy.

SUMMARY: Notice is hereby given, pursuant to Section 103(c)(3) of Public Law 101-609, which states that any vacancy occurring in the membership of the Commission shall be filled, after notice of the vacancy is published in the Federal Register, in the manner in which the original appointment was made, for the remainder of the unexpired term. This notice is published to comply with the aforesaid requirement. The Arctic Research and Policy Act of 1984 (Title I Pub. L. 98-373) and the Presidential Executive Order on Arctic Research (Executive Order 12501) dated January 28, 1985, established the United States Arctic Research Commission and provides the authority for this notice.

FOR FURTHER INFORMATION CONTACT: Debra Dickson, Administrative Officer, Arctic Research Commission, 703-235-1040.

Debra L. Dickson,
Administrative Officer.

[FR Doc. 2025-19871 Filed 11-12-25; 8:45 am]

BILLING CODE 8050-01-P